DEPARTMENT OF LABOR

Employment and Training Administration

[NAFTA-5071]

Modine Aftermarket Holdings, Inc. Merced, CA; Notice of Termination of Investigation

Pursuant to Section 221 of the Trade Act of 1974, an investigation was initiated on July 5, 2001, in response to a worker petition filed on behalf of workers at Modine Aftermarket Holdings, Inc., Merced, California.

An active certification covering the petitioning group of workers remains in effect until August 27, 2001 (NAFTA-3324). Consequently, further investigation in this case would serve no purpose, and the investigation has been terminated.

Linda G. Poole,
Certifying Officer, Division of Trade Adjustment Assistance.

[FR Doc. 01-21316 Filed 8-22-01; 8:45 am]

BILLING CODE 4510-30-M